DEPARTMENT OF TRANSPORTATION

Federal Aviation Administration

Women in Aviation Advisory Board; Notice of Public Meeting

AGENCY: Federal Aviation Administration (FAA), Department of Transportation.

ACTION: Notice of public meeting.

SUMMARY: This notice announces a meeting of the Women in Aviation Advisory Board (the Board).

DATES: The meeting will be held on December 1, 2021, from 9:00 a.m. to 12:30 p.m. Eastern Standard Time.

Requests for accommodations to a disability must be received by November 17, 2021. Requests to submit written materials to be reviewed during the meeting must be received no later than November 17, 2021.

ADDRESSES: The meeting will be held virtually. Members of the public who wish to observe the virtual meeting may access the event live on the FAA's Twitter, Facebook and YouTube channels. For copies of meeting minutes along with all other information, please visit the WIAAB internet website at https://www.faa.gov/regulations_policies/rulemaking/committees/documents/index.cfm/committee/browse/committeeID/817.

FOR FURTHER INFORMATION CONTACT: Ms. Aliah Duckett, Federal Aviation Administration, at S612WomenAdvisoryBoard@faa.gov. Any committee related request should be sent to the person listed in this section or by phone at 202-267-8361.

SUPPLEMENTARY INFORMATION:

I. Background

On October 3, 2019, FAA established the WIAAB under the Federal Advisory Committee Act (FACA) in accordance with section 612 of the FAA Reauthorization Act of 2018 (Pub. L. 115-254). The WIAAB will develop and provide recommendations and strategies to the FAA Administrator to explore opportunities for encouraging women and girls to enter the field of aviation with the objective of promoting organizations and programs that are providing education, training, mentorship, outreach, and recruitment of women in the aviation industry.

The charter was renewed October 3, 2021.

II. Agenda

At the meeting, the agenda will cover the following topics:

• Official Statement of the Designated Federal Officer

• Welcome/Opening Remarks

• Approval of Previous Meeting Minutes

• Subcommittee Presentations

• Review of Action Items

• Closing Remarks

A detailed agenda will be posted on the WIAAB internet website address listed in the ADDRESSES section at least 15 days in advance of the meeting. Copies of the meeting minutes will also be available on the WIAAB internet website.

III. Public Participation

The meeting will be open to the public and livestreamed. Members of the public who wish to observe the virtual meeting can access the livestream on the FAA social media platforms listed in the ADDRESSES section on the day of the event.

The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. However, the public may present written statements to the Board by providing a copy to the Designated Federal Officer via the email listed in the FOR FURTHER INFORMATION CONTACT section.

Issued in Washington, DC.
Angela O. Anderson,
Director, Regulatory Support Division, Office of Rulemaking, Federal Aviation Administration.

[FR Doc. 2021-22326 Filed 10-13-21; 8:45 am]

BILLING CODE 4910-13-P